DEPARTMENT OF ENERGY

Federal Energy Regulatory Commission

[Docket No. EL07-57-000]

PJM Interconnection, LLC; Notice of Institution of Proceeding and Refund Effective Date

April 24, 2007.

On April 19, 2007, the Commission issued an order that instituted a proceeding in the above-referenced docket, pursuant to section 206 of the Federal Power Act (FPA), 16 U.S.C. 824e, regarding PJM's allocation of costs for “economic” projects.

The refund effective date in the above-docketed proceedings, established pursuant to section 206(b) of the FPA, will be the date of publication of this notice in the Federal Register.

Kimberly D. Bose,
Secretary.

[FR Doc. E7-8218 Filed 4-30-07; 8:45 am]

BILLING CODE 6717-01-P